DEPARTMENT OF DEFENSE

Office of the Secretary

Panel to Review Sexual Misconduct Allegations at the United States Air Force Academy

AGENCY: Department of Defense.

ACTION: Notice of advisory committee meeting.

SUMMARY: The Panel to Review Sexual Misconduct Allegations at the United States Air Force Academy met in a closed session for approximately one hour on July 11, 2003. Congress directed the establishment of this seven member panel in Public Law 108-11, Emergency Wartime Supplemental Appropriations Act, 2003.

The session was closed to the public in accordance with 5 U.S.C. 552b(c)(6) because the panel members discussed matters of a personal nature, the disclosure of which would constitute a clearly unwarranted invasion of personal privacy.

This notice is being published after the meeting took place due to unusual administrative difficulties and the short time frame Congress allowed for the Panel to complete their review and produce a final report.

DATES: July 11, 2003.

ADDRESSES: Antlers Adam's Mark Hotel, 4 S. Cascade Ave., Colorado Springs, CO 80903.

FOR FURTHER INFORMATION CONTACT: Sheila Earle, Designated Federal Official, 703-601-2553.

Dated: July 9, 2003.
Patricia L. Toppings,
Alternate OSD Federal Register Liaison Officer, Department of Defense.

[FR Doc. 03-17903 Filed 7-15-03; 8:45 am]

BILLING CODE 5001-08-M